DEPARTMENT OF COMMERCE

International Trade Administration, North American Free Trade Agreement, Article 1904 NAFTA Panel Reviews; Notice of Panel Decision

AGENCY: NAFTA Secretariat, United States Section, International Trade Administration, Department of Commerce.

ACTION: Notice of Panel Decision.

SUMMARY: On January 5, 2007, the binational panel issued its decision in the review of the final results of the affirmative antidumping duty determination made by the International Trade Administration (ITA) respecting Certain Softwood Lumber Products from Canada (Secretariat File No. USA-CDA-2002-1904-02). On October 12, 2006, ITA filed with the panel, a Motion to Dismiss this appeal on the ground that the revocation of the antidumping order had rendered this proceeding moot. On October 13, 2006, the Government of Canada filed a separate motion to dismiss on the same ground. Neither motion was filed with the consent of the other parties of this proceeding. On October 23, 2006, two Canadian trade associations opposed the motions to dismiss, asserting that the revocation of the antidumping order did not render this proceeding moot, and urged the Panel to decide pending motions before it, including motions seeking reconsideration of ITA's most recent remand determination. Because the Panel concluded that the October 12, 2006 revocation of the antidumping order rendered moot this proceeding and all motions pending at the time of revocation, the Panel grants the motion to dismiss. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent bi-national panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

Panel Decision: On January 5, 2007, the binational panel issued its decision in the review of the final results of the affirmative antidumping duty determination made by the International Trade Administration (ITA) respecting Certain Softwood Lumber Products from Canada (Secretariat File No. USA-CDA-2002-1904-02). Because the Panel concluded that the October 12, 2006 revocation of the antidumping order rendered moot this proceeding and all motions pending at the time of revocation, the Panel grants the motion to dismiss.

The panel has directed the Secretary to issue a Notice of Final Panel Action on the 11th day following the issuance of the decision.

Dated: January 8, 2007.
Caratina L. Alston,
United States Secretary, NAFTA Secretariat.

[FR Doc. E7-265 Filed 1-10-07; 8:45 am]

BILLING CODE 3510-GT-P